DEPARTMENT OF THE INTERIOR

Bureau of Land Management

[BLM_NV_FRN_MO4500175965]

Notice of Availability of the Draft Environmental Impact Statement for the Libra Solar Project, Lyon and Mineral Counties, NV

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Libra Solar Project, Lyon and Mineral Counties, Nevada.

DATES: To afford the BLM the opportunity to consider comments in the final EIS, please ensure that the BLM receives your comments within 45 days following the date the Environmental Protection Agency (EPA) publishes its Notice of Availability (NOA) of the Draft EIS in the Federal Register. The EPA usually publishes its NOAs on Fridays.

ADDRESSES: The Draft EIS is available for review on the BLM National NEPA Register Website at https://eplanning.blm.gov/eplanning-ui/project/2022592/570.

Written comments related to the Libra Solar Project may be submitted by any of the following methods:

• BLM National NEPA Register Website: https://eplanning.blm.gov/eplanning-ui/project/2022592/570.

• Email: blm_nv_ccdo_libra_solar@blm.gov.

• Mail: Attn: Libra Solar Project, 5665 Morgan Mill Road, Carson City, Nevada 89701.

Documents pertinent to this proposal may be examined online at the BLM National NEPA Register website at https://eplanning.blm.gov/eplanning-ui/project/2022592/570 and at the BLM Carson City District Office.

FOR FURTHER INFORMATION CONTACT: Melanie Hornsby, BLM Project Manager, telephone (775) 885-6024; address 5665 Morgan Mill Road, Carson City, NV 89701; email blm_nv_ccdo_libra_solar@blm.gov. Individuals in the United States who are deaf, deafblind, hard of hearing, or have a speech disability may dial 711 (TTY, TDD, or TeleBraille) to access telecommunications relay services for contacting Ms. Hornsby. Individuals outside the United States should use the relay services offered within their country to make international calls to the point-of-contact in the United States.

SUPPLEMENTARY INFORMATION: Libra Solar LLC (Applicant) submitted a right-of-way (ROW) application to construct, operate, maintain, and decommission a 700-megawatt alternating current solar photovoltaic power generating facility with battery storage and associated components on approximately 5,114 acres of BLM-managed land in Mineral and Lyon counties, Nevada. The proposal also includes the development of a 24.1-mile-long generation tie line, of which 22.9 miles would be located on BLM managed lands, to connect the solar site to the Fort Churchill Substation in Lyon County. The total right-of-way requested for the project is 5,778 acres. The project would sit approximately 55 miles southeast of the Reno metropolitan area, 11 miles southeast of the town of Yerington, 7 miles west of U.S. Route 95, and 8 miles east of State Route 208.

Purpose and Need

The BLM's purpose and need is to respond to the ROW application submitted by the Applicant under FLPMA Title V (43 U.S.C. 1761) (serial number NVNV105844599, legacy serial number NVN-099846). The need for this action is to fulfill the BLM's responsibility under FLPMA and its ROW regulations to manage the public lands for multiple uses, including the generation of electric energy. FLPMA, as amended, established a multiple-use mandate for the BLM's management of Federal lands, including “systems for generation, transmission, and distribution of electric energy, except that the proponent shall also comply with all applicable requirements of the Federal Energy Regulatory Commission under the Federal Power Act, including part I thereof (41 Stat. 1063, 16 U.S.C. 791a-825r).” (43 U.S.C. 1761(a)(4)). The BLM must consider compliance with FLPMA, BLM ROW regulations, the BLM NEPA Handbook (BLM 2008), Department of Interior NEPA regulations, and other applicable Federal and State laws and policies.

Proposed Action and Alternatives, Including the Preferred Alternative

The BLM has analyzed the No Action Alternative, the proposed Action as submitted by the Applicant, and three action alternatives. Under the No Action Alternative, the solar facility, generation tie-line, battery storage, substation, and associated facilities would not be developed because the BLM would not issue the ROW grant. The three action alternatives analyzed in the draft EIS are as follows: Action Alternative 1: Major Drainage Avoidance, Fenced Corridors, and Vegetation and Topography Maintenance; Action Alternative 2: Alternative Supplemental Access During Construction; and Action Alternative 3: Alternative Gen-tie Connecting to proposed Greenlink West. Action Alternative 1 includes the use of specific construction methods to reduce impacts to vegetation, drainage, and topography within the solar array areas. Action Alternative 2 focuses on reduction of impacts associated with East Walker Road (the project's mostly unpaved access road) by providing supplemental access during construction. Action Alternative 3 entails connecting the generation tie-line from the project to the proposed Greenlink West Transmission Project through a new switching station under the proposed Greenlink West line, which would reduce impacts to air, vegetation, soils, wildlife, visual resources, and other resource areas from the 24.1-mile-long generation tie-line under the Proposed Action.

The BLM Preferred Alternative is a modification of the Proposed Action that combines Action Alternative 1 and Action Alternative 2 for the use of specific construction methods, as well as provides supplemental access to reduce total traffic on East Walker Road during construction. An overlay of Alternative 1 and Alternative 2 is the preferred alternative since it reduces many of the resource impacts, including to vegetation communities, wildlife, hydrology, and other resources. It also allows for faster and more successful restoration at decommissioning, allowing for future uses of the land under multiple use. Alternative 2 reduces traffic impacts as well. Several additional action alternatives were considered, including alternative sites, technologies, and methods, but were eliminated as described in Chapter 2: Proposed Action of the Draft EIS.

Design Features and Mitigation

This section includes Applicant-committed design features and mitigation measures. Key mitigation for the project includes development of a Workforce Housing and Transportation Plan as well as Cooperative Services Agreements, since the project would bring a large construction workforce of a few hundred people into the Yerington area. The Workforce Housing and Transportation Plan would identify the housing options and allow the Applicant to plan construction housing needs that could alleviate the project's contribution to housing impacts. Alternative transportation options, including carpooling, park-and-ride, bus, shuttle, and other forms, would also be assessed to reduce the project's contribution to traffic impacts. The Cooperative Services Agreements would require the Applicant to coordinate with Mineral and Lyon counties to determine increased demands for services such as fire protection, law enforcement, and emergency medical services, and shall include a fee based on the likely point of service and estimated increases in service needs.

While no federally or State-listed threatened or endangered species have the potential to occur on-site that could be impacted by the project, several mitigation measures have been added to reduce effects to special status species, wildlife, and vegetation communities. These measures include development of a Site Restoration Plan and Integrated Weed Management Plan, development of a Worker Environmental Awareness Program, pre-construction surveys and avoidance where feasible for special status plants, and development of a Bird and Bat Conservation Strategy. To address conflicts with grazing permit holders, mitigation includes measures to work with the permit holder to provide infrastructure upgrades to move livestock around the solar facility.

Anticipated Permits and Authorizations

If approved, the BLM would issue a ROW for the project. The term for the ROW would be for 30 years.

Schedule for Decision-Making Process

The final EIS is anticipated to be available in summer 2024 with a Record of Decision in summer or fall 2024.

Public Involvement Process

The BLM will hold one virtual public meeting and one in-person public meeting during the public comment period. The BLM will announce the exact dates, times, and link for these meetings at least 15 days prior to the events. Announcements will be made by news release to the media and posting on the BLM National NEPA Register website: https://eplanning.blm.gov/eplanning-ui/project/2022592/570.

The BLM will continue to consult with Indian Tribal Nations on a government-to-government basis in accordance with Executive Order 13175, BLM MS 1780 and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Kimberly D. Dow,
Carson City District Manager.

[FR Doc. 2024-00656 Filed 1-18-24; 8:45 am]

BILLING CODE 4331-21-P